DEPARTMENT OF TRANSPORTATION

Federal Highway Administration

Record of Decision: Salt Lake County, UT

AGENCY: Federal Highway Administration (FHWA), DOT.

ACTION: Notice of Availability of the Record of Decision following a Final Environmental Impact Statement for transportation improvements in Salt Lake County, Utah.

SUMMARY: The FHWA is issuing this notice to advise the public that a Record of Decision (ROD) has been made following a Final Environmental Impact Statement prepared for the 11400 South Study Area within Salt Lake County, Utah. The ROD approves a location proposed for transportation improvements for the 11400 South Study Area in Salt Lake County, Utah. The 11400 South Study Area includes the area bounded by 12300/12600 South to 10400/10600 South, and Bangerter Highway to 700 East. It includes portions of the cities of Draper, Riverton, Sandy, and South Jordan, Utah.

The Selected Alternative includes a new interchange with Interstate 15 at 11400 South, a new river crossing at 11400 South, and widening 10600 South to six lanes from just west of River Front Parkway to Jordan Gateway. Selection of the Preferred Alternative was based on a comparison of all the alternatives advanced for detailed study in terms of mobility improvements, and environmental, social, economic and Section 4(f) impacts. In addition, the project team considered public and resource agency input and city council recommendations or resolutions regarding the project.

This project requires Federal approval of a proposed new Interstate access and may involve Federal Highway Administration funding as authorized by Title 23 of the United States Code. Consequently, pursuant to the National Environmental Policy Act (NEPA) (42 U.S.C. 4321 et seq.), the Federal Highway Administration (FHWA) in coordination with the Utah Department of Transportation (UDOT), prepared an Environmental Impact Statement (EIS) for the project's impact on the human environment. The Final EIS (FEIS) was issued on June 3, 2005.

Pursuant to Section 6002 of the Safe, Accountable, Flexible, Efficient Transportation Equity Act: A Legacy for Users (23 U.S.C. 139(l)) any person or entity wishing to file a claim for judicial review challenging this decision must do so within 180 days of the publication of this notice.

FOR FURTHER INFORMATION CONTACT: Jeffrey Berna, Environmental Specialist, Federal Highway Administration, 2520 West 4700 South, Suite 9A, Salt Lake City, Utah 84118, Telephone: (801) 963-0078 ext, 235; or Joe Kammerer, Project Manager, Utah Department of Transportation, Region 2, 2010 South 2760 West, Salt Lake City, UT 84104-4592, Telephone: (801) 887-3435. Copies of the FEIS and ROD are available for review at the addresses mentioned above and can be viewed and downloaded from the project Web site http://www.udot.utah.gov/11400south/.

Comments or questions concerning this proposed action and the ROD should be directed to the FHWA or UDOT at the addresses provided above.

(Catalog of Federal Domestic Assistance Program Number 20.205, Highway Research, Planning and Construction. The regulations impending Executive Order 12372 regarding intergovernmental consultation on Federal programs and activities apply to this program)

Issued on: October 13, 2005.
Jeffrey Berna,
Environmental Specialist, Salt Lake City, Utah.

[FR Doc. 05-20777 Filed 10-17-05; 8:45am]

BILLING CODE 4910-22-M